NUCLEAR REGULATORY COMMISSION

Advisory Committee on Reactor Safeguards Meeting of the ACRS Subcommittee on Future Plant Designs; Revision to the September 24, 2010, ACRS Meeting Federal Register Notice

The Federal Register Notice for the ACRS Subcommittee Meeting on Future Plant Designs scheduled to be held on October 21, 2010, is being revised to notify the following:

The meeting will be open to public attendance with exception of portions that may be closed to protect information that is proprietary to Westinghouse Electric Company, General Electric—Hitachi Nuclear Energy (GEH), and their contractors, pursuant to 5 U.S.C. 552b(c)(4).

The notice of this meeting was previously published in the Federal Register on Friday, September 24, 2010, [75 FR 58448]. All other items remain the same as previously published.

Further information regarding this meeting can be obtained by contacting Christina Antonescu, Designated Federal Official (Telephone: 301-415-6792, E-mail: Christina.Antonescu@nrc.gov) between 7:30 a.m. and 5:15 p.m. (ET).

Dated: September 28, 2010.
Antonio F. Dias,
Chief, Reactor Safety Branch B, Advisory Committee on Reactor Safeguards.

[FR Doc. 2010-24791 Filed 10-1-10; 8:45 am]

BILLING CODE 7590-01-P